DEPARTMENT OF COMMERCE

Patent and Trademark Office

LIBRARY OF CONGRESS

Copyright Office

[Docket No. PTO-C-2022-0035]

Study on Non-Fungible Tokens and Related Intellectual Property Law Issues

AGENCY: United States Patent and Trademark Office, Department of Commerce; United States Copyright Office, Library of Congress.

ACTION: Notice of inquiry; extension of written comment period and date change for public roundtables.

SUMMARY: The United States Patent and Trademark Office (USPTO) and United States Copyright Office (USCO) (collectively, the Offices) published a request for comments in the Federal Register on November 23, 2022, seeking comments from the public on various intellectual property (IP) law and policy issues associated with non-fungible tokens (NFTs). Through this notice, the Offices are extending the period for written public comment until February 3, 2023. In addition, the Offices are changing the dates of the public roundtables in this study.

DATES:

Written comments: Written comments must be received by 11:59 p.m. Eastern Time on February 3, 2023.

Public roundtables: The roundtable on Trademarks and NFTs will now be held on Tuesday, January 24, 2023; the roundtable on Patents and NFTs will now be held on Thursday, January 26, 2023; and the roundtable on Copyrights and NFTs will now be held on Tuesday, January 31, 2023. The deadline for requests to participate as a panelist in one or more of the roundtables is unchanged. Such requests must be received by 11:59 p.m. Eastern Time on December 21, 2022.

ADDRESSES:

Submission of written comments: For reasons of Government efficiency, comments must be submitted through the Federal eRulemaking Portal at www.regulations.gov. To submit comments via the portal, enter docket number PTO-C-2022-0035 on the homepage and click “Search.” The site will provide a search results page listing all documents associated with this docket. Find a reference to this request for information and click on the “Comment Now!” icon, complete the required fields, and enter or attach your comments. Attachments to electronic comments will be accepted in ADOBE® portable document format (PDF) or MICROSOFT WORD® format. Because comments will be made available for public inspection, information that the submitter does not desire to make public, such as an address or phone number, should not be included. Visit the Federal eRulemaking Portal for additional instructions on providing comments via the portal. If electronic submission of comments is not feasible due to a lack of access to a computer and/or the internet, please contact the Offices using the contact information below for special instructions on how to submit comments by other means.

Submission of business confidential information: Any submissions containing business confidential information must be marked “confidential treatment requested” and submitted through the Federal eRulemaking Portal. Submitters should provide an index listing the document(s) or information they would like the Offices to withhold. The index should identify the confidential document(s) by document number(s) and document title(s) and should identify the confidential information by description(s) and relevant page number(s) and/or section number(s) within a document. Submitters should provide a statement explaining their grounds for requesting non-disclosure of the information to the public as well. The Offices also request that submitters of business confidential information include a non-confidential version (either redacted or summarized) that will be posted on www.regulations.gov and available for public viewing. In the event that the submitter cannot provide a non-confidential version of their submission, the Offices request that the submitter post a notice in the docket stating that they have provided the Offices with business confidential information. Should a submitter fail either to docket a non-confidential version of their submission or to post a notice that they have provided business confidential information, the Offices will note the receipt of the submission on the docket with the submitter's organization or name (to the degree permitted by law) and the date of submission.

Anonymous submissions: The Offices will accept anonymous submissions. Enter “N/A” in the required fields if you wish to remain anonymous.

Public roundtables: The roundtables will be conducted virtually. Requests to participate as a panelist at one or more of these roundtables must be submitted via email to NFTStudySpeakingRequests@uspto.gov and must be received by 11:59 p.m. Eastern Time on December 21, 2022. Requests to participate as a panelist at a roundtable made in any other form, including as part of comments submitted via the Federal eRulemaking Portal, will not be considered. If email submission of requests to participate as a panelist is not feasible, please contact the Offices using the contact information below for special instructions. The submission of written comments in response to this notice is not a prerequisite to participation as a panelist in a roundtable. Please note that the Offices will review all requests to participate and will endeavor to invite participants representing diverse viewpoints on the subject matter discussed at each roundtable. The Offices may not be able to accommodate all requests.

FOR FURTHER INFORMATION CONTACT: Kevin R. Amer, Senior Level Attorney, USPTO, kevin.amer@uspto.gov, 571- 272-9300; Branden Ritchie, Senior Level Attorney, USPTO, branden.ritchie@uspto.gov, 571-272-9300; Andrew Foglia, Senior Counsel, USCO, afoglia@copyright.gov, 202-707-8350; or Jenée Iyer, Counsel, USCO, jiyer@copyright.gov, 202-707-8350.

SUPPLEMENTARY INFORMATION: On November 23, 2022, the Offices published a notice in the Federal Register announcing that the Offices are conducting a joint study regarding issues of intellectual property (IP) law and policy associated with non-fungible tokens (NFTs) in response to a June 9, 2022 request from Senators Patrick Leahy and Thom Tillis. See Notice of inquiry; notice of public roundtables, 87 FR 71584 (Nov. 23, 2022). In that notice, the Offices indicated that they are seeking public comments on these matters to assist in their work on IP policy related to NFTs and in conducting the study. To assist in gathering public input, the Offices published questions and sought focused written public comments on various (IP) law and policy issues associated with NFTs. The notice requested written public comments be submitted on or before January 9, 2023. In addition, the Offices announced a series of three public roundtables to allow them to gather further input.

Through this notice, the Offices are extending the period for written public comments until February 3, 2023, to give interested members of the public additional time to submit comments. Previously submitted written comments do not need to be resubmitted.

The Offices are also changing the dates of the three public roundtables. The roundtable on Trademarks and NFTs will now be held on Tuesday, January 24, 2023; the roundtable on Patents and NFTs will now be held on Thursday, January 26, 2023; and the roundtable on Copyrights and NFTs will now be held on Tuesday, January 31, 2023. The deadline for requests to participate as a panelist in one or more of the roundtables is unchanged. Such requests must be received by 11:59 p.m. Eastern Time on December 21, 2022.

All other information and instructions to commenters provided in the November 23, 2022, notice remain unchanged.

Katherine K. Vidal,
Under Secretary of Commerce for Intellectual Property and Director of the United States Patent and Trademark Office.
Shira Perlmutter,
Register of Copyrights and Director, United States Copyright Office.

[FR Doc. 2022-27694 Filed 12-20-22; 8:45 am]

BILLING CODE 3510-16-P; 1410-30-P